DEPARTMENT OF DEFENSE

Office of the Secretary

Science and Technology Reinvention Laboratory Demonstration Project; Department of the Army; Army Research, Development and Engineering Command; Tank Automotive Research, Development and Engineering Center (TARDEC); Correction

AGENCY: Office of the Deputy Assistant Secretary of Defense (Civilian Personnel Policy) (DASD (CPP)), Department of Defense (DoD).

ACTION: Notice; correction.

SUMMARY: On March 7, 2011 (76 FR 12508-12548), DoD published notice of approval of a personnel management demonstration project for eligible TARDEC employees. Within that notice the table showing the compensation regions defined by Normal Pay Ranges was misprinted. The Reduction-in-Force service credit was described erroneously, and several occupational series were omitted from the Occupational Families listed. This notice corrects these errors.

DATES: Implementation of this demonstration project will begin no earlier than March 9, 2010.

FOR FURTHER INFORMATION CONTACT: TARDEC: Mr. Gregory Berry, U. S. Army Tank Automotive Research, Development and Engineering Center (TARDEC), 6501 East 11 Mile Road, Attn: RDTA-COS/MS 204, Warren, MI 48397-5000.

DoD: Ms. Betty Duffield, CPMS-PSSC, Suite B-200, 1400 Key Boulevard, Arlington, VA 22209-5144.

Correction:

1. On page 12520, Table 7. Compensation Regions Defined by NPR is replaced with the table below:

2. On page 12529, Section H. Reduction-in-Force (RIF) Procedures, the fourth paragraph is replaced with:

The additional RIF service credit for performance shall be based on the last three OCS scores and will be applied as follows:

a. 20 years of credit for each year the OCS is equal to or greater than the expected OCS.

b. 16 years of credit for each year the OCS is less than the expected OCS but greater than 94% of the expected OCS.

c. 12 years of credit for each year the OCS is less than 94% but greater than 90% of the expected OCS.

d. Zero (0) year of credit for each year the OCS is less than 90% of the expected OCS.

Note 1: Expected OCS is the OCS that corresponds to the employee's base pay at the time of rating.

3. On page 12529, Section H. Reduction-in-Force (RIF) Procedures, fifth paragraph, second to last sentence is changed to read: If an employee has not been rated under the demonstration project their rating will be considered acceptable and they will be given the full 20 years of performance credit.

4. On page 12537, Appendix B: Occupational Series by Occupational Family, the following series are added to the Occupational Families indicated:

a. Engineering & Science:

0810 Civil Engineer Series.

b. Business/Technical:

0399 Administration and Office Support Trainee Series.

1082 Writing and Editing.

c. General Support:

0399 General Support Student Trainee Series.

Dated: September 8, 2011.
Aaron Siegel,
Alternate OSD Federal Register Liaison Officer, Department of Defense.

[FR Doc. 2011-23336 Filed 9-12-11; 8:45 am]

BILLING CODE 5001-06-P